DEPARTMENT OF ENERGY

Federal Energy Regulatory Commission

Combined Notice of Filings #1

December 10, 2025.

Take notice that the Commission received the following electric corporate filings:

Docket Numbers: EC26-37-000.

Applicants: Database returns error. There is a problem with archive data and system. Contact Administrator.

Description: Joint Application for Authorization Under Section 203 of the Federal Power Act of Atlas VII, LLC, et al.

Filed Date: 12/9/25.

Accession Number: 20251209-5190.

Comment Date: 5 p.m. ET 12/30/25.

Take notice that the Commission received the following exempt wholesale generator filings:

Docket Numbers: EG26-92-000.

Applicants: Mallard Energy Storage LLC.

Description: Mallard Energy Storage LLC submits Notice of Self-Certification of Exempt Wholesale Generator Status.

Filed Date: 12/9/25.

Accession Number: 20251209-5166.

Comment Date: 5 p.m. ET 12/30/25.

Docket Numbers: EG26-93-000.

Applicants: MEC Phase 1, LLC.

Description: MEC Phase 1, LLC submits Notice of Self-Certification of Exempt Wholesale Generator Status.

Filed Date: 12/10/25.

Accession Number: 20251210-5104.

Comment Date: 5 p.m. ET 12/31/25.

Docket Numbers: EG26-94-000.

Applicants: Database returns error. There is a problem with archive data and system. Contact Administrator.

Description: MEC Phase 2, LLC submits Notice of Self-Certification of Exempt Wholesale Generator Status.

Filed Date: 12/10/25.

Accession Number: 20251210-5106.

Comment Date: 5 p.m. ET 12/31/25.

Docket Numbers: EG26-95-000.

Applicants: Lock Energy Center, LLC.

Description: Lock Energy Center, LLC submits Notice of Self-Certification of Exempt Wholesale Generator Status.

Filed Date: 12/10/25.

Accession Number: 20251210-5129.

Comment Date: 5 p.m. ET 12/31/25.

Docket Numbers: EG26-96-000.

Applicants: Colleton Energy Storage, LLC.

Description: Colleton Energy Storage, LLC submits Notice of Self-Certification of Exempt Wholesale Generator Status.

Filed Date: 12/10/25.

Accession Number: 20251210-5131.

Comment Date: 5 p.m. ET 12/31/25.

Docket Numbers: EG26-97-000.

Applicants: Williamsburg Energy Storage, LLC.

Description: Williamsburg Energy Storage, LLC submits Notice of Self-Certification of Exempt Wholesale Generator Status.

Filed Date: 12/10/25.

Accession Number: 20251210-5136.

Comment Date: 5 p.m. ET 12/31/25.

Docket Numbers: EG26-98-000.

Applicants: Honey Creek Energy, LLC.

Description: Honey Creek Energy, LLC submits Notice of Self-Certification of Exempt Wholesale Generator Status.

Filed Date: 12/10/25.

Accession Number: 20251210-5140.

Comment Date: 5 p.m. ET 12/31/25.

Take notice that the Commission received the following Complaints and Compliance filings in EL Dockets:

Docket Numbers: EL26-33-000.

Applicants: Spitfire LLC v. Bonneville Power Administration.

Description: Complaint of Spitfire LLC v. Bonneville Power Administration.

Filed Date: 12/9/25.

Accession Number: 20251209-5047.

Comment Date: 5 p.m. ET 12/29/25.

Take notice that the Commission received the following electric rate filings:

Docket Numbers: ER20-1965-003; ER20-1644-002.

Applicants: ENMAX Energy Marketing, Inc., Versant Power.

Description: Triennial Market Power Analysis for Northeast Region of Versant Power, et al.

Filed Date: 12/10/25.

Accession Number: 20251210-5219.

Comment Date: 5 p.m. ET 2/9/26.

Docket Numbers: ER25-3017-000.

Applicants: Hashknife Energy Center LLC.

Description: Second Supplement to 07/30/2025, Hashknife Energy Center LLC tariff filing.

Filed Date: 12/5/25.

Accession Number: 20251205-5354.

Comment Date: 5 p.m. ET 12/15/25.

Docket Numbers: ER26-457-001.

Applicants: CDH Vidal LLC.

Description: Tariff Amendment: Supplement to MBR Application to be effective 1/6/2026.

Filed Date: 12/9/25.

Accession Number: 20251209-5180.

Comment Date: 5 p.m. ET 12/30/25.

Docket Numbers: ER26-707-000.

Applicants: Southern California Edison Company.

Description: § 205(d) Rate Filing: 2025 SCE Revised WDAT Attachment J to be effective 1/1/2026.

Filed Date: 12/10/25.

Accession Number: 20251210-5001.

Comment Date: 5 p.m. ET 12/31/25.

Docket Numbers: ER26-708-000.

Applicants: Southern California Edison Company.

Description: § 205(d) Rate Filing: 2025 SCE Revised TO Tariff Appendix X to be effective 1/1/2026.

Filed Date: 12/10/25.

Accession Number: 20251210-5003.

Comment Date: 5 p.m. ET 12/31/25.

Docket Numbers: ER26-709-000.

Applicants: Southwest Power Pool, Inc.

Description: § 205(d) Rate Filing: Revisions to Attachment AE Section 2.11.1 to Correct an Administrative Error to be effective 4/1/2026.

Filed Date: 12/10/25.

Accession Number: 20251210-5055.

Comment Date: 5 p.m. ET 12/31/25.

Docket Numbers: ER26-710-000.

Applicants: Alabama Power Company, Georgia Power Company, Mississippi Power Company.

Description: § 205(d) Rate Filing: Alabama Power Company submits tariff filing per 35.13(a)(2)(iii: AMEA NITSA Amendment Filing (Adding Security Provision) to be effective 12/10/2025.

Filed Date: 12/10/25.

Accession Number: 20251210-5099.

Comment Date: 5 p.m. ET 12/31/25.

Docket Numbers: ER26-711-000.

Applicants: Honey Creek Energy, LLC.

Description: Initial Rate Filing: Market-Based Rate Application to be effective 2/9/2026.

Filed Date: 12/10/25.

Accession Number: 20251210-5141.

Comment Date: 5 p.m. ET 12/31/25.

Docket Numbers: ER26-712-000.

Applicants: PJM Interconnection, L.L.C.

Description: Tariff Amendment: Notice of Cancellation of Service Agreement No. 7313; Queue No. AG1-282 to be effective 2/9/2026.

Filed Date: 12/10/25.

Accession Number: 20251210-5146.

Comment Date: 5 p.m. ET 12/31/25.

Docket Numbers: ER26-713-000.

Applicants: New York Independent System Operator, Inc.

Description: § 205(d) Rate Filing: NYISO 205: CASR ICAP Market Participation Model Revisions to be effective 3/1/2026.

Filed Date: 12/10/25.

Accession Number: 20251210-5149.

Comment Date: 5 p.m. ET 12/31/25.

Docket Numbers: ER26-714-000.

Applicants: PJM Interconnection, L.L.C.

Description: § 205(d) Rate Filing: Amendment to ISA, SA No. 7038; Queue No. AE2-047 to be effective 2/9/2026.

Filed Date: 12/10/25.

Accession Number: 20251210-5169.

Comment Date: 5 p.m. ET 12/31/25.

Docket Numbers: ER26-715-000.

Applicants: PJM Interconnection, L.L.C.

Description: Tariff Amendment: Notice of Cancellation of NSA, SA No. 7160; Queue Position No. AE2-110 to be effective 2/9/2026.

Filed Date: 12/10/25.

Accession Number: 20251210-5218.

Comment Date: 5 p.m. ET 12/31/25.

Docket Numbers: ER26-716-000.

Applicants: Midcontinent Independent System Operator, Inc.

Description: § 205(d) Rate Filing: 2025-12-10_Termination of SA 6521 Rush Island & 6522 Lakefront 9 SSR Agreements to be effective 10/15/2024.

Filed Date: 12/10/25.

Accession Number: 20251210-5225.

Comment Date: 5 p.m. ET 12/31/25.

Docket Numbers: ER26-717-000.

Applicants: Midcontinent Independent System Operator, Inc., ALLETE, Inc.

Description: § 205(d) Rate Filing: ALLETE, Inc. submits tariff filing per 35.13(a)(2)(iii: 2025-12-10_Allete Order No. 898 Clean Up to be effective 1/1/2025.

Filed Date: 12/10/25.

Accession Number: 20251210-5239.

Comment Date: 5 p.m. ET 12/31/25.

The filings are accessible in the Commission's eLibrary system by clicking on the links or querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Carlos D. Clay,
Deputy Secretary.

[FR Doc. 2025-22828 Filed 12-12-25; 8:45 am]

BILLING CODE 6717-01-P